NATIONAL SCIENCE FOUNDATION

Notice of Withdrawal of Request for Public Comment on a Draft Programmatic Environmental Assessment

AGENCY: National Science Foundation.

ACTION: Notice of withdrawal of request for public comment on a Draft Programmatic Environmental Assessment (PEA) for the Ocean Observatories Initiative (OOI), originally published in the Federal Register: March 19, 2008 (Volume 73, Number 54), page 14847.

SUMMARY: The National Science Foundation (NSF) withdraws the notice of the request for public comment on a Draft PEA for the OOI. The notice was erroneously published (Federal Register: March 19, 2008 [Volume 73, Number 54], page 14847) prior to the release of the Draft PEA.

DATES: Effective immediately.

FOR FURTHER INFORMATION CONTACT: Dr. Shelby Walker, National Science Foundation, Division of Ocean Sciences, 4201 Wilson Blvd., Suite 725, Arlington, VA 22230. Telephone: (703) 292-8580.

SUPPLEMENTARY INFORMATION: The National Science Foundation (NSF) withdraws the notice of the request for public comment on a Draft PEA for the OOI. The notice was erroneously published (Federal Register: March 19, 2008 [Volume 73, Number 54], page 14847) prior to the release of the Draft PEA.

Shelby Walker,
Associate Program Director, Ocean Technology and Interdisciplinary Coordination, Division of Ocean Sciences, National Science Foundation.

[FR Doc. E8-5993 Filed 3-25-08; 8:45 am]

BILLING CODE 7555-01-M